DEPARTMENT OF DEFENSE

Defense Acquisition Regulations System

[Docket Number DARS-2017-0021; OMB Control Number 0704-0214]

Information Collection Requirement; Defense Federal Acquisition Regulation Supplement; Part 217, Special Contracting Methods

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through February 28, 2018. DoD proposes that OMB extend its approval for three additional years.

DATES: DoD will consider all comments received by February 16, 2018.

ADDRESSES: You may submit comments, identified by OMB Control Number 0704-0214, using any of the following methods:

Federal eRulemaking Portal: http://www.regulations.gov. Follow the instructions for submitting comments.

Email: osd.dfars@mail.mil. Include OMB Control Number 0704-0214 in the subject line of the message.

Fax: 571-372-6094.

Mail: Defense Acquisition Regulations System, Attn: Ms. Carrie Moore, OUSD(AT&L)DPAP(DARS), 3060 Defense Pentagon, Room 3B941, Washington, DC 20301-3060.

Comments received generally will be posted without change to http://www.regulations.gov, including any personal information provided.

FOR FURTHER INFORMATION CONTACT: Ms. Carrie Moore, 571-372-6093. The information collection requirements addressed in this notice are available electronically on the internet at: http://www.acq.osd.mil/dpap/dfars/index.htm. Paper copies are available from Ms. Carrie Moore, OUSD(AT&L)DPAP(DARS), Room 3B941, 3060 Defense Pentagon, Washington, DC 20301-3060.

SUPPLEMENTARY INFORMATION:

Title, Associated Forms and OMB Number: Defense Federal Acquisition Regulation Supplement (DFARS) Part 217, Special Contracting Methods, and related clauses at 252.217; OMB Control Number 0704-0214.

Needs and Uses: DFARS Part 217 prescribes policies and procedures for acquiring supplies and services by special contracting methods. Contracting officers use the required information as follows:

Contracting officers use the information required by DFARS 217.7004(a) where offerors shall state prices for the new items being acquired both with and without any exchange (trade-in allowance).

Contracting officers use the information from 217.7404-3(b), to evaluate a contractor's “qualifying proposal” in accordance with the definitization schedule. This subpart allows the contracting officer to require receipt of a qualifying proposal containing sufficient information for DoD to complete a meaningful analyses and audit of the information in the proposal, and any other information that the contracting officer has determined DoD needs to review in connection with the contract.

Contracting officers use the information from 217.7505(d), where the offeror submits with its proposal, price and quantity data on any Government orders for the replenishment part issued within the most recent 12 months.

The clause at DFARS 252.217-7012 is used in master agreements for repair and alteration of vessels. Contracting officers use the information required by paragraph (d) of the clause to determine that the contractor is adequately insured. This requirement supports prudent business practice, because it limits the Government's liability as a related party to the work the contractor performs. Contracting officers use the information required by paragraphs (f) and (g) of the clause to keep informed of lost or damaged property for which the Government is liable, and to determine the appropriate course of action for replacement or repair of the property.

Contracting officers use the information required by the provision at DFARS 252.217-7026 to identify the apparently successful offeror's sources of supply so that competition can be enhanced in future acquisitions. This collection complies with 10 U.S.C. 2384, Supplies: Identification of Suppliers and Sources, which requires the contractor to identify the actual manufacturer or all sources of supply for supplies furnished under contract to DoD.

Contracting officers use the information required by the clause at 252.217-7028 to determine the extent of “over and above” work before the work commences. This requirement allows the Government to review the need for pending work before the contractor begins performance.

Affected Public: Businesses or other for-profit and not-for- profit institutions.

Respondent's Obligation: Required to obtain or retain benefits.

Type of Request: Revision of a currently approved collection.

Reporting Frequency: On occasion.

Number of Respondents: 5,859.

Responses per Respondent: 5.

Annual Responses: 29,294.

Average Burden per Response: 8.

Annual Burden Hours: 234,355.

Summary of Information Collection

DFARS 217.7004, Exchange of Personal Property—Paragraph (a) of this section requires that solicitations which contemplate exchange (trade-in) of personal property and application of the exchange allowance to the acquisition of similar property (see 40 U.S.C. 481), shall include a request for offerors to state prices for the new items being acquired both with and without any exchange (trade-in allowance).

DFARS 217.7404-3, Undefinitized Contract Actions—Paragraph (b) of this section requires contractors to submit a “qualifying proposal” in accordance with the definitization schedule provided in the contract. A qualifying proposal is defined in DFARS 217.7401(c) as a proposal containing sufficient information for the DoD to do complete and meaningful analyses and audits of the information in the proposal, and any other information that the contracting officer has determined DoD needs to review in connection with the contract.

DFARS 217.7505, Acquisition of Replenishment Parts—Paragraph (d) of this section permits contracting officers to include in sole-source solicitations that include acquisition of replenishment parts, a provision requiring that the offeror supply with its proposal, price and quantity data on any Government orders for the replenishment part issued within the most recent 12 months (see 10 U.S.C. 2452 note, Spare Parts and Replacement Equipment, Publication of Regulations).

DFARS 252.217-7012, Liability and Insurance—Paragraph (d)(3) of this clause requires the contractor to show evidence of casualty, accident, and liability insurance under a master agreement for vessel repair and alteration.

DFARS 252.217-7012—Paragraphs (f) and (g) of the require the contractor to notify the contracting officer of any property loss or damage for which the Government is liable and to submit to the contracting officer a request, with supporting documentation, for reimbursement of the cost of replacement or repair.

DFARS 252.217-7026, Identification of Sources of Supply—This provision requires the apparently successful offeror to identify its sources of supply. The Government is required under 10 U.S.C. 2384 to obtain certain information on the actual manufacturer or sources of supplies it acquire.

DFARS 252.217-7028, Over and Above Work—Paragraphs (c) and (e) of this clause require the contractor to submit to the contracting officer a work request and proposal for “over and above work” or work discovered during the course of performing overhaul, maintenance, and repair efforts that is within the general scope of the contract, not covered by the line item(s) for the basic work under the contract, and necessary in order to satisfactorily complete the contract.

Jennifer L. Hawes,
Regulatory Control Officer, Defense Acquisition Regulations System.

[FR Doc. 2017-27212 Filed 12-15-17; 8:45 am]

BILLING CODE 5001-06-P